DEPARTMENT OF COMMERCE

International Trade Administration

[A-201-822]

Stainless Steel Sheet and Strip in Coils From Mexico; Antidumping Duty Administrative Review; Time Limits

AGENCY: Import Administration, International Trade Administration, Department of Commerce.

ACTION: Notice of extension of time limits.

SUMMARY: The Department of Commerce (the Department) is extending the time limits for the final results of the 2000-2001 administrative review of the antidumping duty order on stainless steel sheet and strip in coils from Mexico. This review covers one manufacturer/exporter of the subject merchandise to the United States, ThyssenKrupp Mexinox S.A. de C.V., and the period July 1, 2000, through June 30, 2001.

EFFECTIVE DATE: November 7, 2002.

FOR FURTHER INFORMATION CONTACT: Deborah Scott at (202) 482-2657 or Robert James at (202) 482-0649, Antidumping and Countervailing Duty Enforcement Group III, Office Eight, Import Administration, International Trade Administration, U.S. Department of Commerce, 14th Street and Constitution Avenue NW., Washington, DC 20230.

SUPPLEMENTARY INFORMATION: On August 7, 2002, we published the preliminary results of the administrative review of stainless steel sheet and strip in coils from Mexico for the period July 1, 2000, through June 30, 2001. See “Stainless Steel Sheet and Strip in Coils from Mexico; Preliminary Results of Antidumping Duty Administrative Review,” 67 FR 51204 (August 7, 2002). Currently, the final results of this administrative review are due on December 5, 2002. However, we determine it is not practicable to complete the final results of this review within the original time limit due to a number of significant case issues. Petitioners' and respondent's case and rebuttal briefs raise complicated issues related to the further manufacturing of subject merchandise in the United States, level of trade, and cost of production, such as material costs and the calculation of interest and general and administrative expenses. Making a determination with respect to each of these issues, particularly those related to further manufacturing and cost of production, requires considerable scrutiny of respondent's questionnaire and supplemental questionnaire responses. Therefore, because it is not practicable to complete this review within the normal statutory time limit, the Department is extending the time limits for completion of the final results until February 3, 2003, in accordance with section 751(a)(3)(A) of the Tariff Act of 1930, as amended (the Tariff Act).

This extension is in accordance with section 751(a)(3)(A) of the Tariff Act (19 U.S.C. 1675 (a)(3)(A) (2001)).

Dated: November 1, 2002.
Joseph A. Spetrini,
Deputy Assistant Secretary for Import Administration, Group III.

[FR Doc. 02-28344 Filed 11-6-02; 8:45 am]

BILLING CODE 3510-DS-P